DEPARTMENT OF AGRICULTURE

Farm Service Agency

Dairy Industry Advisory Committee; Public Meeting

AGENCY: Farm Service Agency, USDA.

ACTION: Notice of public meeting; correction.

SUMMARY: The Farm Service Agency published a document in the Federal Register on November 26, 2010, announcing two public meetings of the Dairy Industry Advisory Committee. The location of the December and January meetings have changed. This notice provides the current meeting location information.

FOR FURTHER INFORMATION CONTACT: Solomon Whitfield, Designated Federal Official; phone: (202) 720-9886; e-mail: solomon.whitfield@wdc.usda.gov. Persons with disabilities who require alternative means for communication (Braille, large print, audio tape, etc.) should contact the USDA Target Center at (202) 720-2600 (voice and TDD).

SUPPLEMENTARY INFORMATION: In the Federal Register of November 26, 2010, on page 72786, in the table, the location for the meeting on December 16, 2010, and the meeting on January 11 and 12, 2011, should be USDA headquarters, in the Jamie L Whitten Building, Room 104-A, 12th Street and Jefferson Drive, SW., Washington, DC 20250.

The meeting locations for December 14 and 15, 2010, remains the same as published on November 26, 2010, (75 FR 72785-72786). The meeting times and all other information remains the same as initially published.

For clarity, the Dairy Committee will hold the meetings on the following dates and locations:

Date | Time | Location
December 14, 2010 | 1 p.m.-5 p.m. | USDA headquarters, in the South Building, Room 3074, 1400 Independence Avenue, SW., Washington, DC 20250.
December 15, 2010 | 8 a.m.-noon. | USDA headquarters, in the South Building, Room 3074, 1400 Independence Avenue, SW., Washington, DC 20250.
December 16, 2010 | 8 a.m.-5 p.m. | USDA headquarters, in the Jamie L. Whitten Building, Room 104-A, 12th Street and Jefferson Drive, SW., Washington, DC 20250.
January 11 and 12, 2011 | 8 a.m.-5 p.m. | USDA headquarters, in the Jamie L. Whitten Building, Room 104-A, 12th Street and Jefferson Drive, SW., Washington, DC 20250.

Notice of these meetings is provided in accordance with section 10(a)(2) of the Federal Advisory Committee Act, as amended (5 U.S.C. Appendix 2).

Signed in Washington, DC on December 1, 2010.
R. T. Valentine,
Acting Administrator, Farm Service Agency.

[FR Doc. 2010-30646 Filed 12-6-10; 8:45 am]

BILLING CODE 3410-05-P